DEPARTMENT OF AGRICULTURE

Agricultural Research Service

Notice of Establishment of the Advisory Committee on Biotechnology and 21st Century Agriculture and Notice of Appointment of Committee Members

AGENCY: Office of the Under Secretary, Research, Education, and Economics, USDA.

ACTION: Notice of establishment of the Advisory Committee on Biotechnology and 21st Century Agriculture and notice of appointment of committee members.

SUMMARY: The Office of the Under Secretary, Research, Education, and Economics of the Department of Agriculture, in accordance with the Federal Advisory Committee Act, 5 U.S.C. App. 2, announces the establishment of and appointment of members to the Advisory Committee on Biotechnology and 21st Century Agriculture (“AC21”).

ADDRESSES: The public may send written comments to Michael Schechtman, Designated Federal Official, Office of the Deputy Secretary, USDA, 202B Jamie L. Whitten Federal Building, 14th and Independence Avenue, SW., Washington, DC 20250.

FOR FURTHER INFORMATION CONTACT: Michael Schechtman, Telephone: (202) 720-3817, Fax: (202) 690-4265, or e-mail mschechtman@ars.usda.gov.

SUPPLEMENTARY INFORMATION: The Department of Agriculture is establishing a new committee, the Advisory Committee on Biotechnology and 21st Century Agriculture. The purpose of this new committee is to examine the long-term impacts of biotechnology on the U.S. food and agriculture system and USDA, and provide guidance to USDA on pressing individual issues, identified by the Office of the Secretary, related to the application of biotechnology in agriculture. The committee is necessary and in the public interest.

The Committee will report to the Secretary through an annual report and other means as necessary and appropriate.

The Committee will meet in Washington, DC, up to four (4) times per year. Eighteen members were appointed from nominations of more than 100 well-qualified individuals, representing the biotechnology industry, the farming community, the seed industry, food manufacturers, commodity processors and shippers, environmental and consumer groups, along with academic researchers as well as experts on bioethics and legal issues. Equal opportunity practices were followed in appointing committee members. To assure that recommendations of the advisory committee take into account the needs of diverse groups served by the Department, membership includes, to the extent practicable, individuals with demonstrated ability to represent minorities, women, and persons with disabilities.

The following appointments to the Advisory Committee on Biotechnology and 21st Century Agriculture have been made:

Patricia A. Layton, Professor, Department of Forest Resources, Clemson University, in Clemson, South Carolina will serve as Chair of the AC21;

Daryl D. Buss, Dean, School of Veterinary Medicine, University of Wisconsin in Madison, Wisconsin;

Leon C. Corzine, Farmer, and Chairman, Biotechnology Working Group, National Corn Growers Association, in Assumption, Illinois;

Carole Cramer, Professor, Virginia Tech, and Chief Scientific Officer, CropTech Corporation, in Blacksburg, Virginia;

Richard T. Crowder, Chief Executive Officer, American Seed Trade Association, in Alexandria, Virginia;

Michael D. Dykes, Vice President, Government Affairs, Monsanto Company, in Washington, DC;

Juan C. Enriquez-Cabot, Director, Life Sciences Project, Harvard Business School, in Boston, Massachusetts;

Randal W. Giroux, Staff Scientist, Cargill, Inc., in Wayzata, Minnesota;

Duane Grant, Farmer and Member, National Association of Wheat Growers and U.S. Wheat Inc. Biotechnology Committee, in Rupert, Idaho;

David A. Hoisington, Director, Applied Biotechnology Center and Bioinformatics, International Maize and Wheat Improvement Center (CIMMYT), in Mexico City, Mexico;

Gregory A. Jaffe, Co-Director, Biotechnology Project, Center for Science in the Public Interest, in Washington, DC;

David C. Magnus, Assistant Professor, Center for Bioethics, University of Pennsylvania, in Philadelphia, Pennsylvania;

Terry L. Medley, Vice President, Global Regulatory Affairs, DuPont Agriculture and Nutrition, in Wilmington, Delaware;

Margaret G. Mellon, Director, Food and Environment Program, Union of Concerned Scientists, in Washington, DC;

Ronald D. Olson, Vice President, Grain Operations, General Mills, in Minneapolis, Minnesota;

Jerome B. Slocum, Farmer and General Manager, North Mississippi Grain Company, in Coldwater, Mississippi;

Keith C. Triebwasser, Manager, Product Safety and Regulatory Affairs, The Procter and Gamble Company, in Cincinnati, Ohio;

Lisa W. Zannoni, Head, Global Regulatory Affairs and Government Relations, BASF Plant Science, in Mount Olive, New Jersey.

Committee members will initially serve one-or two-year terms, and may be reappointed to serve up to six consecutive years. In the event of a vacancy, the Secretary will appoint a new member as appropriate and subject to the provisions of the Federal Advisory Committee Act. The duties of the Committee are solely advisory.

Committee members will serve without pay. Reimbursement of travel expenses and per diem costs shall be made to Committee members who would be unable to attend Committee meetings without such reimbursement.

Joseph J. Jen,
Under Secretary, Research, Education, and Economics.

[FR Doc. 03-9173 Filed 4-14-03; 8:45 am]

BILLING CODE 3410-03-P